DEPARTMENT OF HEALTH AND HUMAN SERVICES

National Institutes of Health

National Cancer Institute; Amended Notice of Meeting

Notice is hereby given of a change in the meeting of the National Cancer Institute Special Emphasis Panel, Translational and Basic Research Early Lesions (U54 and U24), March 02, 2022, 09:00 a.m. to March 03, 2022, 06:00 p.m., National Cancer Institute at Shady Grove, Room 7W108, 9609 Medical Center Drive, Rockville, Maryland 20850 which was published in the Federal Register on December 20, 2021, FR Doc 2021-27482, 86 FR 71902.

This notice is being amended to change the meeting date from March 2-3, 2022 to March 15-16, 2022. The meeting times and location will stay the same. The meeting is closed to the public.

Dated: January 5, 2022.
David W. Freeman,
Program Analyst, Office of Federal Advisory Committee Policy.

[FR Doc. 2022-00258 Filed 1-10-22; 8:45 am]

BILLING CODE 4140-01-P